ENVIRONMENTAL PROTECTION AGENCY

40 CFR Parts 9 and 721

[EPA-HQ-OPPT-2015-0220; FRL-9932-56]

RIN 2070-AB27

Significant New Use Rule on Substituted Cyclosiloxane; Removal

AGENCY: Environmental Protection Agency (EPA).

ACTION: Final rule.

SUMMARY: EPA is removing a significant new use rule (SNUR) promulgated under the Toxic Substances Control Act (TSCA) for substituted cyclosiloxane that was the subject of a premanufacture notice (PMN). EPA published this SNUR using direct final rulemaking procedures. EPA received a notice of intent to submit adverse comments on this rule. Therefore, the Agency is removing this SNUR. EPA intends to publish a proposed SNUR for this chemical substance under separate notice and comment procedures.

DATES: This final rule is effective September 2, 2015.

ADDRESSES: The docket for this action, identified by docket identification (ID) number EPA-HQ-OPPT-2015-0220, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

A list of potentially affected entities is provided in the Federal Register of June 5, 2015 (80 FR 32003) (FRL-9927-67). If you have questions regarding the applicability of this action to a particular entity, consult the technical person listed under FOR FURTHER INFORMATION CONTACT.

II. What SNUR is being removed?

In the June 5, 2015 Federal Register, EPA issued a direct final SNUR for the chemical substance that is identified in this final rule. This direct final SNUR was issued pursuant to the procedures in 40 CFR part 721, subpart D. EPA is removing the direct final SNUR issued for the chemical substance identified generically as substituted cyclosiloxane, which was the subject of PMN P-14-605.

This direct final rule was issued pursuant to the procedures in 40 CFR part 721, subpart D. Section 721.170(d)(4)(i)(B) provides that EPA will withdraw the relevant portion of such a direct final rule if within 30 days of publication the Agency receives a notice of intent to submit adverse comments on the SNUR. EPA received a notice of intent to submit adverse comments on the SNUR, but mistakenly did not withdraw the direct final rule as required by § 721.170(d)(4)(i)(B). The Agency is therefore removing the rule issued for the chemical substance that was the subject of PMN P-14-605. EPA intends to publish a proposed SNUR for this chemical substance under separate notice and comment procedures.

For further information regarding EPA's direct rulemaking process for issuing SNURs, see 40 CFR part 721, subpart D, and the Federal Register of July 27, 1989 (54 FR 31314).

III. Good Cause Finding

EPA determined that there is good cause to first; promulgate this final rule without opportunity for notice and comment in accordance with section 553(b)(B) of the Administrative Procedure Act (APA), and second; make the rule effective on the date of publication in accordance with section 553(d) of the APA. Good cause exists because the direct final rule was allowed to become effective in violation of § 721.170(d)(4)(i)(B).

IV. Statutory and Executive Order Reviews

This action removes regulatory requirements that were not intended to go into effect. As such, the Agency has determined that this removal will not have any adverse impacts, economic or otherwise. The statutory and Executive Order review requirements applicable to this action were discussed in the June 5, 2015 Federal Register. Those review requirements do not apply to this action because it is a removal and does not contain any new or amended requirements.

V. Congressional Review Act (CRA)

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2). Section 808 of the CRA allows the issuing agency to make a rule effective sooner than otherwise provided by CRA if the agency makes a good cause finding that notice and public procedure is impracticable, unnecessary, or contrary to the public interest. As required by 5 U.S.C. 808(2), this determination is supported by a brief statement in Unit III.

List of Subjects

40 CFR Part 9

Environmental protection, Reporting and recordkeeping requirements.

40 CFR Part 721

Environmental protection, Chemicals, Hazardous substances, Reporting and recordkeeping requirements.

Dated: August 20, 2015.
Maria J. Doa,
Director, Chemical Control Division, Office of Pollution Prevention and Toxics.

Therefore, 40 CFR chapter I is amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-671q, 7542, 9601-9657, 11023, 11048.

§ 9.1 [Amended]

2. In the table in § 9.1, under the undesignated center heading “Significant New Uses of Chemical Substances,” remove § 721.10842.

PART 721—[AMENDED]

3. The authority citation for part 721 continues to read as follows:

Authority: 15 U.S.C. 2604, 2607, and 2625(c).

§ 721.10842 [Removed]

4. Remove § 721.10842.

[FR Doc. 2015-21800 Filed 9-1-15; 8:45 am]

BILLING CODE 6560-50-P